MARINE MAMMAL COMMISSION

Sunshine Act Notice

TIME AND DATE: The Marine Mammal Commission and its Committee of Scientific Advisors on Marine Mammals will meet in open session on Tuesday, 24 January 2012, from 1:45 p.m. to 5:45 p.m.; Wednesday, 25 January 2012, from 9 a.m. to 5:30 p.m.; Thursday, 26 January 2012, from 9 a.m. to 5 p.m.; and Friday, 27 January 2012 from 9 a.m. to 4 p.m. The Commission and the Committee will meet in executive session on Tuesday, 24 January 2012, from 10:30 to 12:30 p.m.

PLACE: Sheraton Anchorage Hotel, 401 E. 6th Avenue, Anchorage, AK 99501; telephone: (907) 276-8700; fax: (907) 343-3145.

STATUS: The executive session will be closed to the public in accordance with the provisions of the Government in the Sunshine Act (5 U.S.C. 552b) and applicable regulations. The session will be limited to discussions of internal agency processes, personnel, and the budget of the Commission. All other portions of the meeting will be open to the public. Public participation will be allowed as time permits and as determined to be desirable by the Chairman.

MATTERS TO BE CONSIDERED: The Commission and Committee will meet in public session to discuss a broad range of marine ecosystem and marine mammal matters with a focus on issues and species regarding Alaska. Although subject to change, major issues that the Commission plans to consider at the meeting include co-management of marine mammals between Alaska Native organizations and federal agencies, research activities in the Arctic, the effects of climate disruption, the conservation of species of special concern, marine mammal health and diseases in Alaska, Arctic oil and gas exploration and development, and conservation and research needs related to marine mammals in the Arctic. The last day of the meeting will be devoted to discussing conservation and management priorities concerning federal marine mammal programs. A draft agenda for the meeting is available on the Commission's Web site (http://www.mmc.gov).

CONTACT PERSON FOR MORE INFORMATION: Darel E. Jordan, Staff Assistant, Marine Mammal Commission, 4340 East-West Highway, Room 700, Bethesda, MD 20814; (301) 504-0087; email: djordan@mmc.gov.

Dated: December 29, 2011.
Michael L. Gosliner,
General Counsel.

[FR Doc. 2011-33851 Filed 12-30-11; 4:15 pm]

BILLING CODE 6820-31-P